DEPARTMENT OF HOMELAND SECURITY

Coast Guard

33 CFR Part 117

[CGD05-05-048]

RIN 1625-AA-09

Drawbridge Operation Regulations; Atlantic Intracoastal Waterway, Onslow Beach, NC

AGENCY: Coast Guard, DHS.

ACTION: Notice of temporary deviation from regulations.

SUMMARY: The Commander, Fifth Coast Guard District, has approved a temporary deviation from the regulations governing the operation of the Onslow Beach Swing Bridge across the Atlantic Intracoastal Waterway (AICW), mile 240.7, at Camp Lejeune, NC. This deviation allows the drawbridge to remain closed-to-navigation each day from 11 p.m. to 9 a.m., beginning October 6 until November 11, 2005, to facilitate sandblasting and painting.

DATES: The deviation is effective from 11 p.m. on October 6 to 9 a.m. on November 11, 2005.

FOR FURTHER INFORMATION CONTACT: Gary Heyer, Bridge Management Specialist, Fifth Coast Guard District, at (757) 398-6629.

SUPPLEMENTARY INFORMATION: The Onslow Beach Swing Bridge and adjoining property are part of the U.S. Navy and the Marine Corps Base at Camp Lejeune military reservation, located adjacent to Jacksonville, North Carolina. The current regulations at 33 CFR § 117.821(a)(2), require the Onslow Beach Swing Bridge to open on signal for commercial vessels at all times; and on signal for pleasure vessels, except between 7 a.m. and 7 p.m., the draw need only open on the hour and half-hour.

The U.S. Navy has hired a contractor to sandblast and paint the bridge. This work will utilize an encapsulation unit that will immobilize the operation of the swing span. To facilitate the work, the swing span will be closed-to-navigation each day from 11 p.m. to 9 a.m. on October 6, 2005 until and including November 11, 2005. At all other times, the bridge will operate in accordance with 33 CFR § 117.821(a)(2).

The Coast Guard has informed the known users of the waterway of the closure periods for the bridge so that these vessels can arrange their transits to minimize any impact caused by the temporary deviation.

The District Commander has granted a temporary deviation from the operating requirements listed in 33 CFR § 117.35 for the purpose of repair completion of the drawbridge. The temporary deviation allows the Onslow Beach Swing Bridge across the AICW, mile 240.7, at Camp Lejeune, NC, to remain closed-to-navigation each day from 11 p.m. to 9 a.m. on October 6, 2005 until November 11, 2005.

Dated: July 22, 2005.
Waverly W. Gregory, Jr.,
Chief, Bridge Administration Branch, Fifth Coast Guard District.

[FR Doc. 05-15066 Filed 7-28-05; 8:45 am]

BILLING CODE 4910-15-P